DEPARTMENT OF ENERGY

Federal Energy Regulatory Commission

[Docket No. RP97-14-014]

Midwestern Gas Transmission Company; Notice of Negotiated Rates

April 3, 2003.

Take notice that on March 28, 2003, Midwestern Gas Transmission Company (Midwestern) tendered for filing to become part of Midwestern's FERC Gas Tariff, Third Revised Volume No. 1, Sixth Revised Sheet No. 273, to become effective April 1, 2003.

Midwestern states that it has entered into a Negotiated Rate Agreement with Northern Illinois Gas Company, d/b/a Nicor Gas (Nicor). Contract No. FA0166 provides the following information: (1) The exact legal name of the shipper; (2) the total charges (the negotiated rate and all applicable charges); (3) the receipt and delivery points; (4) the volume of gas to be transported; and (5) the applicable rate schedule for the service. In addition, Midwestern states that it is filing Sheet No. 273 to reflect that the Negotiated Rate contains non-conforming terms.

Midwestern further states that the information set forth in this negotiated rate agreement fully discloses the essential conditions involved in the negotiated rate transaction, including a specification of all consideration. In addition, in accordance with the orders approving Midwestern's negotiated rate option, Midwestern will keep its negotiated rate information in such form that it can be filed, separately identified, and separately totaled as part of and in the format of Statements G, I, and J in Midwestern's future section 4 rate case filings.

Midwestern states that copies of this filing have been sent to all of Midwestern's contracted shippers and interested state regulatory commissions.

Any person desiring to be heard or to protest said filing should file a motion to intervene or a protest with the Federal Energy Regulatory Commission, 888 First Street, NE., Washington, DC 20426, in accordance with sections 385.314 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: April 14, 2003.

Magalie R. Salas,
Secretary.

[FR Doc. 03-8791 Filed 4-9-03; 8:45 am]

BILLING CODE 6717-01-P